FEDERAL COMMUNICATIONS COMMISSION

47 CFR Part 73

[DA 06-337; MB Docket No. 03-238; RM-10820]

Radio Broadcasting Services; Lancaster, Pickerington, and Westerville, OH

AGENCY: Federal Communications Commission.

ACTION: Final rule.

SUMMARY: At the request of Franklin Communications Inc., licensee of Station WJZA(FM), Lancaster, Ohio, Channel 278A is reallotted from Lancaster, Ohio, to Pickerington, Ohio, as the community's first local transmission service, and the license for Station WJZA(FM) is modified to reflect the new community. 68 FR 67390 (December 2, 2003). An application for construction permit for a minor change of facilities filed by North American Broadcasting Co., licensee of Station WTDA(FM), Westerville Ohio, was considered as a counterproposal and dismissed (File No. BPH-20040108ALM). Channel 278A is reallotted at Pickerington at a site 8.8 kilometers (5.4 miles) northeast of the community at coordinates 39-56-39 NL and 82-41-14 WL.

DATES: Effective April 3, 2006.

ADDRESSES: Federal Communications Commission, 445 Twelfth Street, SW., Washington, DC 20554.

FOR FURTHER INFORMATION CONTACT: Victoria M. McCauley, Media Bureau, (202) 418-2180.

SUPPLEMENTARY INFORMATION: This is a synopsis of the Commission's Report and Order, MB Docket No. 03-238, adopted February 15, 2006, and released February 17, 2006. The full text of this Commission decision is available for inspection and copying during normal business hours in the FCC's Reference Information Center at Portals II, CY-A257, 445 Twelfth Street, SW., Washington, DC. This document may also be purchased from the Commission's duplicating contractors, Best Copy and Printing, Inc. 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a)(1)(A).

List of Subjects in 47 CFR Part 73

Radio, Radio broadcasting.

Part 73 of Title 47 of the Code of Federal Regulations is amended as follows:

PART 73—RADIO BROADCAST SERVICES

1. The authority citation for part 73 continues to read as follows:

Authority: 47 U.S.C. 154, 303, 334, 336.

§ 73.202 [Amended]

2. Section 73.202(b), the Table of FM Allotments under Ohio, is amended by removing Channel 278A at Lancaster and adding Pickerington, Channel 278A.

Federal Communications Commission.
John A. Karousos,
Assistant Chief, Audio Division, Media Bureau.

[FR Doc. 06-2328 Filed 3-14-06; 8:45 am]

BILLING CODE 6712-01-P